DEPARTMENT OF LABOR

Mine Safety and Health Administration

30 CFR Parts 18 and 75

RIN 1219-AB34

High-Voltage Continuous Mining Machine Standard for Underground Coal Mines

Correction

In rule document 2010-7309 beginning on page 17529 in the issue of Tuesday, April 6, 2010, make the following correction:

PART 18—ELECTRIC MOTOR-DRIVEN MINE EQUIPMENT AND ACCESSORIES

Appendix I to Subpart D [Corrected]

On page 17549, in Appendix I to Subpart D, in the table titled Table 10—HIGH VOLTAGE TRAILING CABLE AMPACITIES AND OUTSIDE DIAMETERS, the first footnote should read as set forth below:

*These ampacities are based on single isolated conductor in air, operated with open-circuited shield for a 90 °C conductor temperature and an ambient temperature of 40 °C.

[FR Doc. C1-2010-7309 Filed 4-21-10; 8:45 am]

BILLING CODE 1505-01-D